DEPARTMENT OF LABOR

Employment and Training Administration

Program Year (PY) 2006 WIA Final Allotments for Adult and Youth Activities and Additional Funds From WIA Section 173(e) for Adult/Dislocated Worker Activities for Eligible States

AGENCY: Employment and Training Administration, Labor.

ACTION: Notice.

SUMMARY: This Notice announces final allotments for PY 2006 (July 1, 2006—June 30, 2007) for the WIA youth and adult programs and additional PY 2006 funding from WIA section 173(e) for eligible states.

The WIA allotments for states are based on provisions defined in the statute. WIA allotments announced in the Federal Register on April, 11, 2006, remain unchanged for outlying areas in the adult and youth programs and Native Americans in the youth program.

FOR FURTHER INFORMATION CONTACT: WIA Youth Activities allotments: Haskel Lowery at 202-693-3030 or LaSharn Youngblood at 202-693-3606, and WIA Adult Employment and Training Activities allotments: Raymond Palmer at 202-693-3535 or Stephanie Cabell at 202-693-3171 (these are not toll-free numbers). General information about these training programs may also be found at the Web site: http://www.doleta.gov.

SUPPLEMENTARY INFORMATION: This Federal Register notice is an update to the planning estimate levels for the WIA youth and adult programs announced in the Federal Register on April 11, 2006. In this Notice, the Department of Labor (DOL or Department) is announcing WIA final allotments for PY 2006 (July 1, 2006—June 30, 2007) for Youth Activities and Adult Activities, as well as the additional funding available for eligible states from WIA section 173(e). The allotments are based on the funds appropriated in the Departments of Labor, Health and Human Services, and Education, and Related Agencies Appropriations Act, 2006, Public Law 109-149, December 30, 2005, including the Department of Defense, Emergency Supplemental Appropriations to Address Hurricanes in the Gulf of Mexico, and Pandemic Influenza Act, 2006, Public Law 109-148, Division B, Title III, Chapter 8 (December 30, 2005), which required a government-wide reduction of 1.0 percent to all FY 2006 discretionary programs. Attached are tables displaying the PY 2006 final allotments for WIA Title I Youth Activities (Attachment I) and Adult Activities (Attachment II).

Youth Activities Final Allotments. Total funding for PY 2006 WIA Youth Activities is $940,500,000. Attachment I includes a breakdown of the Youth Activities state final allotments for PY 2006 for all states and outlying areas. In accordance with WIA section 127, before determining the amount available for states, the amount available for the outlying areas was reserved at 0.25 percent, or $2,351,250 of the total amount appropriated for Youth Activities, and 1.5 percent, or $14,107,500, was reserved for Native Americans. Outlying areas and Native Americans youth funding levels remain unchanged from the levels identified in the earlier Notice.

After determining the amount for the outlying areas and Native Americans, the amount available for allotment to the states for PY 2006 is $924,041,250. The three factors required in WIA for the youth program state allotment formula use the following data for the PY 2006 allotments:

(1) Number of unemployed for areas of substantial unemployment (ASUs), averages for the 12-month period, July 2004 through preliminary June 2005;

(2) Number of excess unemployed individuals or the ASU excess unemployed individuals (depending on which is higher), averages for the same 12-month period used for ASU unemployed data; and

(3) Number of economically disadvantaged youth (age 16 to 21, excluding college students and military), as counted in the 2000 Census.

The computation of final state allotments for the youth program is based on ASU data for the PY 2006 allotments identified by the states under revised guidance issued by the Employment and Training Administration. The Federal Register Notice of April 11, 2006, described the background for the revision of the ASU data, which was related to a 2000 Census data processing problem, and announced planning estimates for the youth program.

Since the total amount available for states in PY 2006 is below the required $1 billion threshold specified in WIA section 127(b)(1)(C)(iv)(IV), as it also was in PY 2005, the WIA additional minimum provisions are not applicable. Instead, as required by WIA, the Job Training Partnership Act (JTPA) section 262(a)(3) (as amended by section 701 of the Job Training Reform Amendments of 1992) minimums of 90 percent hold-harmless of the prior year allotment percentage (not dollars) and 0.25 percent state minimum floor are applicable. The planning estimates announced earlier were based on the minimum amounts states are guaranteed under these WIA formula minimum provisions. Now that revised ASU data have been submitted by states and certified by the Bureau of Labor Statistics, final formula allotments for the states for the WIA youth program have been calculated. In the final allotment calculations, some states remain entitled to only the minimum amount, and thus will receive no additional funds above their minimum. States whose revised data generated an amount above their minimum amount will also be entitled to those additional funds.

Adult Employment and Training Activities Final Allotments. The total Adult Employment and Training Activities appropriation is $864,198,640. Attachment II shows the PY 2006 Adult Activities final allotments by state. Like the youth program, the total available for the outlying areas was reserved at 0.25 percent, or $2,160,497 of the full amount appropriated for adults. Outlying areas adult funding levels remain unchanged from the levels identified for the adult program in the earlier Federal Register Notice of April 11, 2006. After determining the amount for the outlying areas, the amount available for allotments to the states is $862,038,143. The three factors for the adult program state allotment formula use the same data (including revised ASU data) as used for the youth program formula, except that data for the number of economically disadvantaged adults (age 22 to 72, excluding college students and military) are used.

Since the total amount available for the adult program for states in PY 2006 is below the required $960 million threshold specified in WIA section 132(b)(1)(B)(iv)(IV), as it also was in PY 2005, the WIA additional minimum provisions are not applicable. Instead, as required by WIA, the JTPA section 202(a)(3) (as amended by section 701 of the Job Training Reform Amendments of 1992) minimums of 90 percent hold-harmless of the prior year allotment percentage and 0.25 percent state minimum floor are applicable.

The Federal Register Notice of April 11, 2006, announced planning estimates for the WIA adult program, as well as for the youth program. The planning estimates were based on the minimum amounts states are guaranteed under these WIA formula minimum provisions. Now that revised ASU data have been submitted by states and certified by the Bureau of Labor Statistics, final formula allotments for the states for the WIA adult program have been calculated. In the final allotment calculations, some states remain entitled to only the minimum amount, and thus will receive no additional funds above their minimum. States whose revised data generated an amount above their minimum amount will also be entitled to those additional funds.

Additional Funding from WIA Section 173(e) for Adult /Dislocated Worker Activities for Eligible States. WIA section 173(e) provides that up to $15 million from Dislocated Workers reserve funds is to be made available annually to states that receive less funds under the WIA adult formula than they would have received had the JTPA adult formula been in effect. The amount of each eligible state's grant is based on the difference between the WIA and JTPA adult formula allotments; funds are available for grants for up to eight states with the largest difference. The additional funding must be used for adult or dislocated worker activities. In PY 2006, one state is eligible for these additional funds, for a total of $130,477 (Attachment III).

Signed at Washington, DC, this 1st day of August 2006.
Emily Stover DeRocco,
Assistant Secretary for Employment and Training.

BILLING CODE 4510-30-P

[FR Doc. 06-6849 Filed 8-9-06; 8:45 am]

BILLING CODE 4510-30-C